DEPARTMENT OF AGRICULTURE

Food Safety and Inspection Service

9 CFR Parts 317 and 381

[Docket No. 03-026P]

RIN 0583-AD05

Uniform Compliance Date for Food Labeling Regulations

AGENCY: Food Safety and Inspection Service, USDA.

ACTION: Proposed rule.

SUMMARY: The Food Safety and Inspection Service (FSIS) is proposing to establish January 1, 2008, as the uniform compliance date for new food labeling regulations that are issued between January 1, 2005, and December 31, 2006. FSIS is proposing to establish a uniform compliance date to minimize the economic impact of labeling changes by providing for an orderly industry adjustment to new labeling requirements. Furthermore, FSIS is establishing the uniform compliance date to be consistent with the approach that the Department of Health and Human Services, Food and Drug Administration (FDA) has already established.

DATES: Submit comments by July 6, 2004.

ADDRESSES: FSIS invites interested persons to submit comments on this proposed rule. Comments may be submitted by any of the following methods:

• Mail, including floppy disks or CD-ROM's, and hand-or courier-delivered items: Send to Docket Clerk, U.S. Department of Agriculture, Food Safety and Inspection Service, 300 12th Street, SW., Room 102 Cotton Annex, Washington, DC 20250.

• Federal eRulemaking Portal: Go to http://www.regulations.gov. Follow the online instructions at that site for submitting comments.

All submissions received must include the Agency name and docket number 03-026P or Regulatory Information Number (RIN) 0583-AD05.

All comments submitted in response to this proposal, as well as research and background information used by FSIS in developing this document, will be available for public inspection in the FSIS Docket Room at the address listed above between 8:30 a.m. and 4:30 p.m., Monday through Friday. The comments also will be posted on the Agency's Web site at http://www.fsis.usda.gov/OPPDE/rdad/FRDockets.htm.

FOR FURTHER INFORMATION CONTACT: Robert C. Post, Ph.D., Director, Labeling and Consumer Protection Staff, Office of Policy and Program Development, Food Safety and Inspection Service, U.S. Department of Agriculture, Washington, DC 20250-3700, Telephone (202) 205-0279, Fax (202) 205-3625. Copies of references cited in this document are available in the FSIS Docket Clerk's Office (see ADDRESSES).

SUPPLEMENTARY INFORMATION:

Background

The Food Safety and Inspection Service (FSIS) periodically issues regulations requiring changes in the labeling of meat and poultry food products. Currently, the Agency establishes a compliance date for each new labeling regulation that it publishes. Many meat and poultry establishments also produce non-meat and non-poultry food products subject to the jurisdiction of the Food and Drug Administration (FDA), and the FDA also periodically issues regulations requiring changes in the labeling of such food products. In contrast to FSIS, FDA has a standard uniform compliance date for all of its food labeling regulations that are issued during a given two year period. FSIS has determined that coordinating the effective dates of its labeling changes and FDA's labeling changes will minimize the economic impact of those changes on the industry.

Therefore, FSIS believes that there should be a uniform compliance date for all food product labeling regulations affecting meat and poultry establishments that are issued within a two year period. Such a compliance date will ensure that changes will take effect on a timely basis, but that companies will not have to respond separately to each change.

In December 2002, FDA established January 1, 2006, as the uniform compliance date for all Federal food labeling regulations affecting non-meat and non-poultry food products which it issues between January 1, 2003 and December 31, 2004. We anticipate that FDA will publish in the Federal Register its next sequential uniform compliance date as January 1, 2008, for food labeling regulations issued between January 1, 2005, and December 31, 2006. Therefore, in order to harmonize its compliance schedule with that of FDA, FSIS is proposing to establish January 1, 2008, as the uniform compliance date for amendments to the Federal meat and poultry food product labeling regulations that it issues between January 1, 2005, and December 31, 2006.

Like FDA, FSIS intends to set uniform compliance dates in two year increments. The Agency believes that two year increments will enhance the industry's ability to make orderly adjustments to new labeling requirements. Industry will be able to plan for the use of label inventories and develop new labeling materials that include new requirements of all the labeling regulations made within the two year period, thereby minimizing the economic impact of labeling changes. By establishing a uniform compliance date that is the same as FDA's, FSIS is providing the meat and poultry industry with a greater ability to adjust its production plans to new labeling requirements across all of its product lines.

Establishing this policy serves consumers' interests because the cost of multiple short-term label revisions that would otherwise occur would likely be passed on to consumers in the form of higher prices.

If adopted, this action will not change existing requirements for compliance dates contained in final rules published before January 1, 2005. Therefore, all final FSIS regulations published in the Federal Register before January 1, 2005, will go into effect on the date stated in the respective final rule.

Even if this action is adopted, it will remain the agency's policy generally to encourage industry to comply with new labeling regulations as quickly as feasible. Thus, when industry members voluntarily change their labels, they should consider incorporating any new requirements that have been published as final regulations up to that time.

The new uniform compliance date, if adopted, will apply only to final FSIS regulations that require changes in the labeling of meat and poultry products and that are published after January 1, 2005, and before December 31, 2006. In each of these regulations, FSIS will specifically identify January 1, 2008, as the compliance date. All meat and poultry food products that are subject to the labeling regulations promulgated between January 1, 2005, to December 31, 2006, will be required to comply with these regulations when introduced into commerce on or after January 1, 2008. If any food labeling regulation involves special circumstances that justify a compliance date other than January 1, 2008, the agency will determine for that regulation an appropriate compliance date, which will be specified when the final regulation is published.

Executive Order 12866

This action has been determined to be not significant and therefore has not been reviewed by the Office of Management and Budget in accordance with Executive Order 12866. Establishing a uniform compliance date for all future Federal food product labeling regulations affecting the meat and poultry industry that are issued by FSIS and FDA over a two year period will eliminate potentially burdensome requirements otherwise faced by the industry. This measure is consistent with regulatory reform of Federal rulemaking in that it eliminates potentially unnecessary and burdensome requirements.

The elimination of potentially conflicting compliance dates provides an orderly industry adjustment to any new labeling requirements. Labeling changes in response to Federal regulations will likely be less frequent, and establishments will be able to plan for full utilization of their labeling stocks.

Regulatory Flexibility Analysis

This rule does not have a significant economic impact on a substantial number of small entities; consequently, an initial regulatory flexibility analysis is not required (5 U.S.C. 601-612). The uniform compliance date does not impose any burden on small entities. The agency will conduct regulatory flexibility analyses of future labeling regulations if such analyses are required.

Paperwork Requirements

There are no paperwork or recordkeeping requirements associated with this rule under the Paperwork Reduction Act of 1995 (44 U.S.C. 3501-3520).

Additional Public Notification

Public awareness of all segments of rulemaking and policy development is important. Consequently, in an effort to better ensure that the public and in particular that minorities, women, and persons with disabilities are aware of this proposed rule, FSIS will announce it on-line through the FSIS Web page located at http://www.fsis.usda.gov.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov. FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

Done in Washington, DC, on April 22, 2004.
Barbara J. Masters,
Acting Administrator.

[FR Doc. 04-9931 Filed 5-3-04; 8:45 am]

BILLING CODE 3410-DM-P